DEPARTMENT OF COMMERCE

Bureau of Industry and Security

15 CFR Part 744

[Docket No. 040713207-4207-01]

RIN 0694-AD13

India: Removal of Indian Entity and Revision in License Review Policy for Certain Indian Entities; and a Clarification; Correction

AGENCY: Bureau of Industry and Security, Commerce.

ACTION: Final rule.

SUMMARY: On September 22, 2004, the Bureau of Industry and Security published a Federal Register document that, inter alia, removed an Indian entity from the Entity List and revised licensing policies for other Indian entities in the Export Administration Regulations. That notice was misprinted, containing typographical errors in the statement of licensing policy with respect to two Indian Department of Atomic Energy entities that are subject to International Atomic Energy Agency safeguards and in statements of Federal Register citations amending the Entity List. Additionally, the preamble in that notice should have stated that the licensing policy for the “balance of plant” portion of Indian nuclear facilities subject to International Atomic Energy Agency safeguards (Rajasthan 1 & 2 and Tarapur 1 & 2) is a presumption of approval for items not multilaterally controlled for nuclear proliferation reasons. This document corrects those errors.

DATES: This rule is effective September 23, 2004.

FOR FURTHER INFORMATION CONTACT: Eileen M. Albanese, Office of Exporter Services, Bureau of Industry and Security, telephone: (202) 482-0436.

List of Subjects in 15 CFR Part 744

Exports, Reporting and recordkeeping requirements, Terrorism.

Accordingly, for the reasons set forth in the preamble, 15 CFR part 744 is amended as follows:

PART 744—[AMENDED]

1. The authority citation for 15 CFR part 744 is revised to read as follows:

Authority: 50 U.S.C. app. 2401 et seq.; 50 U.S.C. 1701 et seq.; 22 U.S.C. 3201 et seq.; 42 U.S.C. 2139a; Sec. 901-911, Pub. L. 106-387; Sec. 221, Pub. L. 107-56; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208, E.O. 13222, 66 FR 44025, 3 CFR, 2001 Comp., p. 783; E.O. 13224, 66 FR 49079, 3 CFR, 2001 Comp., p. 786; Notice of October 29, 2003, 68 FR 62209, 3 CFR, 2003 Comp., p. 347; Notice of August 6, 2004, 69 FR 48763 (August 10, 2004).

§ 744.1 [Corrected]

2. In Supplement No. 4 to part 744, under the country of “India”, the entities “Indian Space Research Organization (ISRO) headquarters in Bangalore” and “Department of Atomic Energy Agency entities” are revised to read as follows:

Supplement No. 4 to Part 744—Entity List
Country/Entity | License requirement | License review policy | Federal Register citation
* * * * * * *
INDIA
The following Indian Space Research Organization (ISRO) subordinate entities:
—ISRO Telemetry, Tracking and Command Network (ISTRAC); —ISRO Inertial Systems Unit (IISU), Thiruvananthapuram; —Liquid Propulsion Systems Center; —Solid Propellant Space Booster Plant (SPROB); —Space Applications Center (SAC), Ahmadabad; —Sriharikota Space Center (SHAR); —Vikram Sarabhai Space Center (VSSC), Thiruvananthapuram | For all items subject to the EAR having a classification other than (1) EAR99 or (2) a classification where the third through fifth digits of the ECCN are “999”, e.g. XX999 | Case-by-case review for all items on the CCL | 63 FR 64322, 11/19/98; 65 FR 14444, 03/17/00; 66 FR 50090, 10/01/01; 69 FR 56694, 09/22/04.
The following Dpeartment of Atomic Energy entities:
—Bhabha Atomic Research Center (BARC); —Indira Gandhi Atomic Research Center (IGCAR); —Indian Rare Earths; —Nuclear reactors (including power plants) not under International Atomic Energy Agency (IAEA) safeguards, fuel reprocessing and enrichment facilities, heavy water production facilities and their collocated ammonia plants | For all items subject to the EAR | Case-by-case for all items listed on the CCL. Presumption of approval for EAR99 items | 63 FR 64322, 11/19/98; 65 FR 14444, 03/17/00; 66 FR 50090, 10/01/01; 69 FR 56694, 09/22/04.
The following Department of Atomic Energy entities:
—Nuclear reactors (including power plants) subjet to International Atomic Energy Agency (IAEA) safeguards: Tarapur (TAPS 1 & 2), Rajasthan (RAPS 1 & 2) | For all items subject to the EAR | Case-by-case for all items listed on the CCL. Presumption of approval for EAR99 items. Presumption of approval for all items not multilaterally controlled for Nuclear Proliferation (NPI) reasons for use in the “balance of plant” (non-reactor-related end uses) ¹ activities at nuclear facilities subject to International Atomic Energy Agency safeguards (Rajasthan 1 & 2 and Tarapur 1 & 2) | 63 FR 64322, 11/19/98; 65 FR 14444, 03/17/00; 66 FR 50090, 10/01/01; 69 FR 56694, 09/22/04.
* * * * * * *
¹ “Balance of Plant” refers to the part of a nuclear power plant used for power generation (e.g., turbines, controllers, or power distribution) to distinguish it from the nuclear reactor.

Eileen M. Albanese,
Director, Office of Exporter Services.

[FR Doc. 04-21837 Filed 9-27-04; 11:43 am]

BILLING CODE 3510-33-P